DEPARTMENT OF LABOR

Employment and Training Administration

[TA-W-37,828]

Johnstown Corporation, Johnstown, PA; Notice of Affirmative Determination Regarding Application for Reconsideration

By letter of September 26, 2000, the United Steelworkers of America requested administrative reconsideration of the Department of Labor's Notice of Negative Determination Regarding Eligibility to Apply for Worker Adjustment Assistance, applicable to petition number TA-W-37,828. The denial notice was signed on August 15, 2000 and was published in the Federal Register on September 12, 2000 (65 FR 55049).

The petitioner presented new information concerning declining customers of the subject firm. The Department will therefore conduct further survey of the Johnstown Corporation customers.

Conclusion

After careful review of the application, I conclude that the claim is of sufficient weight to justify reconsideration of the Department of Labor's prior decision. The application is, therefore, granted.

Signed at Washington, DC this 19th day of October 2000.
Linda G. Poole,
Certifying Officer, Division of Trade Adjustment Assistance.

[FR Doc. 00-31812 Filed 12-13-00; 8:45 am]

BILLING CODE 4510-30-M